DEPARTMENT OF TRANSPORTATION

Federal Aviation Administration

14 CFR Part 39

[Docket No. FAA-2008-0304; Directorate Identifier 2008-NE-08-AD; Amendment 39-15470; AD 2008-06-52]

RIN 2120-AA64

Airworthiness Directives; Thielert Aircraft Engines GmbH (TAE) Model TAE 125-02-99 Engines

AGENCY: Federal Aviation Administration (FAA), Department of Transportation (DOT).

ACTION: Final rule; request for comments.

SUMMARY: This document publishes in the Federal Register an amendment adopting emergency airworthiness directive (AD) 2008-06-52 that was sent previously to all known U.S. owners and operators of certain TAE Model TAE 125-02-99 engines. This AD requires, before further flight, replacing the high-pressure fuel line and installing a high-pressure fuel line support. This AD results from reports of in-flight engine shutdown incidents on airplanes equipped with TAE 125-02-99 engines. We are issuing this AD to prevent an in-flight engine shutdown or engine fire due to a cracked fuel line.

DATES: This AD becomes effective April 30, 2008 to all persons except those persons to whom it was made immediately effective by emergency AD 2008-06-52, issued on March 12, 2008, which contained the requirements of this amendment. The Director of the Federal Register approved the incorporation by reference of certain publications listed in the regulations as of April 30, 2008.

We must receive any comments on this AD by June 16, 2008.

ADDRESSES: Use one of the following addresses to comment on this AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Thielert Aircraft Engines GmbH, Platanenstrasse 14 D-09350, Lichtenstein, Germany, telephone: +49-37204-696-0; fax: +49-37204-696-55; e-mail: info@centurion-engines.com, for the service information identified in this AD.

FOR FURTHER INFORMATION CONTACT: Jason Yang, Aerospace Engineer, Engine Certification Office, FAA, Engine and Propeller Directorate, 12 New England Executive Park, Burlington, MA 01803; e-mail jason.yang@faa.gov; telephone (781) 238-7747; fax (781) 238-7199.

SUPPLEMENTARY INFORMATION: On March 12, 2008, the FAA issued emergency AD 2008-06-52, that applies to TAE model TAE 125-02-99 engines with a serial number from 02-02-1500 through 02-02-2279. That AD requires, before further flight, replacing the high-pressure fuel line and installing a high-pressure fuel line support. That AD resulted from reports of in-flight engine shutdown incidents on airplanes equipped with TAE 125-02-99 engines. This was found to be the result of a cracked high-pressure fuel line between the high-pressure pump and fuel rail. These cracks were caused by excessive vibration of the fuel line. This condition, if not corrected, could result in an in-flight engine shutdown or engine fire due to a cracked fuel line.

Relevant Service Information

We have reviewed and approved the technical contents of TAE Service Bulletin (SB) No. TM TAE 125-1005 P1, Revision 1, dated February 11, 2008, and SB No. TM TAE 125-1005 P1, Revision 2, dated March 6, 2008. Those SBs describe procedures for installing a new high-pressure fuel line and a high-pressure fuel line bracket.

FAA's Determination and Requirements of This AD

Since the unsafe condition described is likely to exist or develop on other engines of the same type design, we issued emergency AD 2008-06-52 to prevent an in-flight engine shutdown or engine fire due to a cracked fuel line. This AD requires, before further flight, replacing the high-pressure fuel line and installing a high-pressure fuel line support. You must use the service information described previously to perform the actions required by this AD.

FAA's Determination of the Effective Date

Since an unsafe condition exists that requires the immediate adoption of this AD, we have found that notice and opportunity for public comment before issuing this AD are impracticable, and that good cause existed to make the AD effective immediately on March 12, 2008, to all known U.S. owners and operators of certain TAE 125-02-99 engines. These conditions still exist, and we are publishing the AD in the Federal Register as an amendment to Section 39.13 of part 39 of the Code of Federal Regulations (14 CFR part 39) to make it effective to all persons.

Comments Invited

This AD is a final rule that involves requirements affecting flight safety and was not preceded by notice and an opportunity for public comment. However, we invite you to send us any written relevant data, views, or arguments regarding this AD. Send your comments to an address listed under ADDRESSES. Include “AD Docket No. FAA-2008-0304; Directorate Identifier 2008-NE-08-AD” in the subject line of your comments. We specifically invite comments on the overall regulatory, economic, environmental, and energy aspects of the rule that might suggest a need to modify it.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2008-06-52 Thielert Aircraft Engines GmbH: Amendment 39-15470. Docket No. FAA-2008-0304; Directorate Identifier 2008-NE-08-AD.

Effective Date

(a) This airworthiness directive (AD) becomes effective April 30, 2008, to all persons except those persons to whom it was made immediately effective by emergency AD 2008-06-52, issued March 12, 2008, which contained the requirements of this amendment.

Affected ADs

(b) None.

Applicability

(c) This AD applies to Thielert Aircraft Engines GmbH (TAE) model TAE 125-02-99 engines with a serial number (SN) from 02-02-1500 through 02-02-2279. These engines are installed on, but not limited to, Cessna 172 and (Reims-built) F172 series (STC No. SA01303WI); and Diamond DA42 airplanes.

Unsafe Condition

(d) This AD results from reports of in-flight engine shutdown incidents on airplanes equipped with TAE 125-02-99 engines. This was found to be the result of a cracked high-pressure fuel line between the high-pressure pump and fuel rail. These cracks were caused by excessive vibration of the fuel line. We are issuing this AD to prevent an in-flight engine shutdown or engine fire due to a cracked fuel line.

Compliance

(e) You are responsible for having the actions required by this AD performed before the next flight after the effective date of this AD, unless the actions have already been done.

Corrective Action

(f) Before the next flight, install a new high-pressure fuel line and a high-pressure fuel line bracket using TAE Service Bulletin (SB) No. TM TAE 125-1005 P1, Revision 2, dated March 6, 2008, or TAE SB No. TM TAE 125-1005 P1, Revision 1, dated February 11, 2008.

Alternative Methods of Compliance

(g) The Manager, Engine Certification Office, has the authority to approve alternative methods of compliance for this AD if requested using the procedures found in 14 CFR 39.19.

Special Flight Permits

(h) We are limiting special flight permits to relocating the airplane to the next maintenance station, to a maximum flight duration of 2 hours, and to visual flight rules.

Related Information

(i) EASA Emergency Airworthiness Directive (EAD) No. 2008-0056R1-E, dated March 11, 2008, and EASA EAD No. 2008-0027-E, dated February 13, 2008, also address the subject of this AD.

(j) Contact Jason Yang, Aerospace Engineer, Engine Certification Office, FAA, Engine and Propeller Directorate, 12 New England Executive Park, Burlington, MA 01803; e-mail: jason.yang@faa.gov; telephone: (781) 238-7747; fax: (781) 238-7199, for more information about this AD.

Material Incorporated by Reference

(k) You must use the service information specified in Table 1 of this AD to perform the actions required by this AD. The Director of the Federal Register approved the incorporation by reference of the documents listed in Table 1 of this AD in accordance with 5 U.S.C. 552(a) and 1 CFR part 51. You can get a copy from Thielert Aircraft Engines GmbH, Platanenstrasse 14 D-09350, Lichtenstein, Germany, telephone: +49-37204-696-0; fax: +49-37204-696-55; e-mail: info@centurion-engines.com. You may review copies at the FAA, New England Region, 12 New England Executive Park, Burlington, MA; or at the National Archives and Records Administration (NARA). For information on the availability of this material at NARA, call 202-741-6030, or go to: http://www.archives.gov/federal-register/cfr/ibr-locations.html.

Table 1.—Incorporation by Reference
Service Bulletin No. | Page | Revision | Date
TM TAE 125-1005 P1, Total Pages—6 | ALL | 1 | February 11, 2008.
TM TAE 125-1005 P1, Total Pages—6 | ALL | 2 | March 6, 2008.

Issued in Burlington, Massachusetts, on April 10, 2008.
Peter A. White,
Assistant Manager, Engine and Propeller Directorate, Aircraft Certification Service.

[FR Doc. E8-8118 Filed 4-14-08; 8:45 am]

BILLING CODE 4910-13-P